DEPARTMENT OF DEFENSE

Notice To Extend Submittal Date for Scoping Comments for United States Air Force Main Operating Base 2 for the Beddown of the KC-46A Tanker Aircraft Environmental Impact Statement

AGENCY: U.S. Air Force, DOD.

ACTION: Notification of Extension for Submittal of Scoping Comments.

SUMMARY: The U.S. Air Force is issuing this notice to advise the public of an extension to submit scoping comments. The initial Notice of Availability published in the Federal Register on May 17, 2013 (Vol. 78, No. 96/Notices/29120), requested public scoping comments no later than June 10, 2013. The Air Force has extended the deadline for submitting public comments to July 5, 2013. All substantive scoping comments received during the public scoping period will be considered in the preparation of the Draft EIS.

Point of Contact: Please direct any written comments or requests for information to KC-46A EIS Project Manager, National Guard Bureau, NGB/A7AM, 3501 Fetchet Avenue, Joint Base Andrews, Maryland, 20762-5157.

Henry Williams Jr.,
Acting Air Force Federal Register Liaison Officer.

[FR Doc. 2013-13135 Filed 6-3-13; 8:45 am]

BILLING CODE 5001-10-P